NUCLEAR REGULATORY COMMISSION

[NRC-2014-0163]

Setpoints for Safety-Related Instrumentation

AGENCY: Nuclear Regulatory Commission.

ACTION: Draft regulatory guide, request for comment.

SUMMARY: The U.S. Nuclear Regulatory Commission (NRC) is issuing draft regulatory guide (DG), DG-1141, “Setpoints for Safety-Related Instruments” for public comment. This DG is proposed Revision 4 of Regulatory Guide (RG) 1.105, “Setpoints for Safety-Related Instrumentation.” This DG describes proposed updates to the recommended practices and criteria for determining instrument setpoints and appropriate setpoint related criteria. This DG describes proposed practices and criteria that the staff of the NRC considers acceptable for demonstrating compliance with NRC requirements for ensuring that setpoints for safety related instruments are initially within, and should remain within, technical specification limits. This DG also proposes practices and criteria for establishing those technical specification limits and ensuring that those limits will adequately support the proper operation of the associated systems.

DATES: Submit comments by September 9, 2014. Comments received after this date will be considered if practical to do so, but the NRC is able to ensure consideration only for comments received on or before this date. Although a time limit is given, comments and suggestions in connection with items for inclusion in guides currently being developed or improvements in all published guides are encouraged at any time.

ADDRESSES: You may submit comments by any of the following methods (unless this document describes a different method for submitting comments on a specific subject):

• Federal Rulemaking Web site: Go to http://www.regulations.gov and search for Docket ID NRC-2014-0163. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: 3WFN 06A-A44M, U.S. Nuclear Regulatory Commission, Washington, DC 20555-0001.

For additional direction on accessing information and submitting comments, see “Accessing Information and Submitting Comments” in the SUPPLEMENTARY INFORMATION section of this document.

FOR FURTHER INFORMATION CONTACT: Paul J. Rebstock, telephone: 301-251-7488, email: Paul.Rebstock@nrc.gov or Mark Orr, telephone: 301-251-7495, email: Mark.Orr@nrc.gov. Both of the Office of Nuclear Regulatory Research, U.S. Nuclear Regulatory Commission, Washington, DC 20555-0001.

SUPPLEMENTARY INFORMATION:

I. Obtaining Information and Submitting Comments

A. Obtaining Information.

Please refer to Docket ID NRC-2014-0163 when contacting the NRC about the availability of information regarding this document. You may obtain publicly-available information related to this document by any of the following methods:

• Federal Rulemaking Web site: Go to http://www.regulations.gov and search for Docket ID NRC-2014-0163. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft regulatory guide is available electronically in ADAMS under Accession No. ML14149A361. The regulatory analysis may be found in ADAMS under Accession No. ML101820157.

• NRC's PDR: You may examine and purchase copies of public documents at the NRC's PDR, Room O1-F21, One White Flint North, 11555 Rockville Pike, Rockville, Maryland 20852.

B. Submitting Comments

Please include Docket ID NRC-2014-0163 in the subject line of your comment submission, in order to ensure that the NRC is able to make your comment submission available to the public in this docket.

The NRC cautions you not to include identifying or contact information that you do not want to be publicly disclosed in your comment submission. The NRC will post all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC will not edit comment submissions to remove such information before making the comment submissions available to the public or entering the comment submissions into ADAMS.

II. Additional Information

The NRC is issuing for public comment a DG in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Setpoints for Safety-Related Instrumentation” is temporarily identified by its task number, DG-1141. Draft regulatory guide, DG-1141 is proposed Revision 4 of RG 1.105. The DG describes practices and criteria that the staff of the NRC considers acceptable for compliance with NRC requirements for ensuring that setpoints for safety related instruments are initially within, and should remain within, technical specification limits. This DG also presents practices and criteria for establishing those technical specification limits and ensuring that those limits will adequately support the proper operation of the associated systems—that is, that establishing and maintaining setpoints in accordance with those limits will provide adequate assurance that a plant will operate as described in the plant safety analyses.

This revision continues to address concerns expressed in the previous revision of this regulatory guide. The previous revision addressed problems with setpoint uncertainty allowances and setpoint discrepancies, which had led to a number of operational problems. This DG also addressed significant variability that had been observed in licensees' surveillance interval evaluations with regard to drift, setpoint methodology, and completeness. This DG enumerates a number of specific concerns in this area, observing that the listed concerns were resolved during the development of the 1994 version of ANSI/ISA-S67.04, Part 1-1994, “Setpoints for Nuclear Safety-Related Instrumentation.”

Copies of American National Standards Institute (ANSI)/International Society of Automation (ISA) Standard ANSI/ISA-S67.04, Part 1-1994 may be obtained through the ISA Web site at www.isa.org or by writing to the International Society of Automation, 67 T.W. Alexander Dr., P.O. Box 12277, Research Triangle Park, NC 27709, by email at info@isa.org, telephone: 919-549-8411, or fax at 919-549-8288

III. Backfitting and Issue Finality

This DG, if finalized, would not constitute backfitting as defined in 10 CFR 50.109 (the Backfit Rule) and would not otherwise be inconsistent with the issue finality provisions in 10 CFR part 52. As discussed in the “Implementation” section of this DG, the NRC has no current intention to impose this DG on holders of current operating licenses or combined licenses.

This DG, if finalized, may be applied to applications for operating licenses and combined licenses docketed by the NRC as of the date of issuance of the final RG, as well as future applications for operating licenses and combined licenses submitted after the issuance of the RG. Such action does not constitute backfitting as defined in 10 CFR 50.109(a)(1) or is otherwise inconsistent with the applicable issue finality provision in 10 CFR part 52, inasmuch as such applicants or potential applicants, with exceptions not applicable here, are not within the scope of entities protected by the Backfit Rule or the relevant issue finality provisions in 10 CFR part 52.

Dated at Rockville, Maryland, this 3rd day of July, 2014.
For the Nuclear Regulatory Commission.
Harriet Karagiannis,
Acting Chief, Regulatory Guidance and Generic Issues Branch, Division of Engineering, Office of Nuclear Regulatory Research.

[FR Doc. 2014-16165 Filed 7-10-14; 8:45 am]

BILLING CODE 7590-01-P